DEPARTMENT OF JUSTICE

Antitrust Division

Notice Pursuant to the National Cooperative Research and Production Act of 1993 Vehicle Infrastructure Integration Consortium

Notice is hereby given that, on November 24, 2010, pursuant to Section 6(a) of the National Cooperative Research and Production Act of 1993, 15 U.S.C. 4301 et seq. (“the Act”), the Vehicle Infrastructure Integration Consortium (“VIIC”) has filed written notifications simultaneously with the Attorney General and the Federal Trade Commission disclosing changes in its membership. The notifications were filed for the purpose of extending the Act's provisions limiting the recovery of antitrust plaintiffs to actual damages under specified circumstances. Specifically, Nissan North America, Inc., Franklin Hills, TN, has succeeded Nissan North America Technical Center, Inc., Farmington Hills, MI, as a member, and the name of the member previously listed as Mercedes-Benz Research & Technology North America, Inc. is corrected to read Mercedes-Benz Research & Development North America, Inc., Palo Alto, CA.

No other changes have been made in either the membership or planned activity of the group research project. Membership in this group research project remains open, and VIIC intends to file additional written notification disclosing all changes in membership.

On May 1, 2006, VIIC filed its original notification pursuant to Section 6(a) of the Act. The Department of Justice published a notice in the Federal Register pursuant to Section 6(b) of the Act on June 2, 2006 (71 FR 32128).

The last notification was filed with the Department on March 11, 2008. A notice was published in the Federal Register pursuant to Section 6(b) of the Act on April 7, 2008 (71 FR 18811).

Patricia A. Brink,
Director of Civil Enforcement, Antitrust Division.

[FR Doc. 2010-32053 Filed 12-21-10; 8:45 am]

BILLING CODE 4410-11-M